DEPARTMENT OF COMMERCE

National Oceanic and Atmospheric Administration

Proposed Information Collection; Comment Request; Surfclam/Ocean Quahog Individual Transferable Quota Administration

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 2, 2018.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Douglas Potts, 978-281-9341 or Douglas.Potts@noaa.gov.

SUPPLEMENTARY INFORMATION:

I. Abstract

This request is for an extension of a currently approved collection associated with the Atlantic surfclam and ocean quahog fisheries. National Marine Fisheries Service (NMFS) Greater Atlantic Region manages these fisheries in the Exclusive Economic Zone (EEZ) of the Northeastern United States through the Atlantic Surfclam and Ocean Quahog Fishery Management Plan (FMP). The Mid-Atlantic Fishery Management Council prepared the FMP pursuant to the Magnuson-Stevens Fishery Conservation and Management Act (Magnuson-Stevens Act). The regulations implementing the FMP are specified at 50 CFR part 648.

The recordkeeping and reporting requirements at §§ 648.74, 648.75, and 648.76 form the basis for this collection of information. We request information from surfclam and ocean quahog individual transferable quota (ITQ) permit holders to issue ITQ permits and to process and track requests from permit holders to transfer quota share or cage tags. We also request information from surfclam and ocean quahog ITQ permit holders to track and properly account for surfclam and ocean quahog harvest shucked at sea. Because there is not a standard conversion factor for estimating unshucked product from shucked product, NMFS requires vessels that shuck product at sea to carry on board the vessel a NMFS-approved observer to certify the amount of these clams harvested. This information, upon receipt, results in an efficient and accurate database for management and monitoring of fisheries of the Northeastern U.S. EEZ.

Georges Bank has been closed to the harvest of surfclams and ocean quahogs since 1990 due to red tide blooms that cause paralytic shellfish poisoning (PSP). We reopened a portion of the Georges Bank Closed Area starting in 2012 under certain conditions. We request information from surfclam and ocean quahog ITQ permit holders who fish in the reopened area to ensure compliance with the Protocol for Onboard Screening and Dockside Testing in Molluscan Shellfish. The U.S. Food and Drug Administration, the commercial fishing industry, and NMFS developed the PSP protocol to test and verify that clams harvested from Georges Bank continue to be safe for human consumption. The National Shellfish Sanitation Program adopted the PSP protocol at the October 2011 Interstate Shellfish Sanitation Conference.

II. Method of Collection

Forms are online at https://www.greateratlantic.fisheries.noaa.gov/aps/forms.html as “fillable” pdf documents, which can then be downloaded, printed, and faxed or mailed to NMFS. ITQ transfer forms may also be submitted electronically. Information for the PSP protocol is submitted through paper forms, as well as through electronic methods, including email, telephone, and shipboard electronic equipment such as VHF radio, email, or a vessel monitoring system.

III. Data

OMB Control Number: 0648-0240.

Form Number: None.

Type of Review: Regular submission (extension of a current information collection).

Affected Public: Business or other for-profit organizations.

Estimated Number of Respondents: 189.

Estimated Time Per Response: ITQ permit application form, review of a pre-filled form for renewing entities, ITQ transfer form, 5 minutes each; 1 hour to complete the ITQ ownership form for new applicants and 30 minutes for the application to shuck surfclams and ocean quahogs at sea. The requirements under the PSP protocol are based on the number of vessels that land surfclams or ocean quahogs and the number of trips taken into the area, with a total estimated annual burden of 2,400 hours.

Estimated Total Annual Burden Hours: 2,538.

Estimated Total Annual Cost to Public: $111,764 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for Office of Management and Budget approval of this information collection; they also will become a matter of public record.

Dated: July 31, 2018.
Sarah Brabson,
PRA Clearance Officer.

[FR Doc. 2018-16643 Filed 8-2-18; 8:45 am]

BILLING CODE 3510-22-P